SMALL BUSINESS ADMINISTRATION

[Disaster Declaration # 10127]

Arizona Disaster # AZ-00002 Disaster Declaration

AGENCY: U.S. Small Business Administration

ACTION: Notice.

SUMMARY: This is a Notice of the Presidential declaration of a major disaster for Public Assistance Only for the State of Arizona (FEMA-1586-DR), dated 04/14/2005.

Incident: Severe Storms and Flooding.

Incident Period: 02/10/2005 through 02/15/2005.

Effective Date: 04/14/2005.

Physical Loan Application Deadline Date: 06/13/2005.

ADDRESSES: Submit completed loan applications to: U.S. Small Business Administration, Disaster Area Office 4, P.O. Box 419004, Sacramento, CA 95841.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on 04/14/2005, applications for Private Non-Profit organizations that provide essential services of a governmental nature may file disaster loan applications at the address listed above or other locally announced locations.

The following areas have been determined to be adversely affected by the disaster:

Primary Counties: Gila, Graham, Greenlee, Mohave, Pinal, and Yavapai.

Tribal Nations: Havasupai Tribe, Hopi Tribe, San Carlos Apache Tribe, and the Portion of the Navajo Tribal Nation within the State of Arizona.

The Interest Rates are:

| Percent
Other (including Non-Profit Organizations) With Credit Available Elsewhere | 4.750
Businesses and Non-Profit Organizations Without Credit Available Elsewhere | 4.000

The number assigned to this disaster for physical damage is 10127B.

(Catalog of Federal Domestic Assistance Number 59008)
Cheri L. Cannon,
Acting Associate Administrator for Disaster Assistance.

[FR Doc. 05-9168 Filed 5-6-05; 8:45 am]

BILLING CODE 8075-01-P